DEPARTMENT OF ENERGY

Federal Energy Regulatory Commission

[Docket No. RP02-156 -000]

Vector Pipeline L.P.; Notice of Annual Fuel Use Report

February 5, 2002.

Take notice that on January 31, 2002, Vector Pipeline L.P. tendered for filing an annual report of its monthly fuel use ratios for the period December 1, 2000 through December 31, 2001.

Vector states that this filing is made pursuant to Section 11.4 of the General Terms and Conditions of the Vector Gas Tariff and Section 154.502 of the Commission's regulations.

Any person desiring to be heard or to protest said filing should file a motion to intervene or a protest with the Federal Energy Regulatory Commission, 888 First Street, NE., Washington, DC 20426, in accordance with Sections 385.214 or 385.211 of the Commission's Rules and Regulations. All such motions or protests must be filed on or before February 12, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-3213 Filed 2-8-02; 8:45 am]

BILLING CODE 6717-01-P